FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/14/2005
20050670 | Perry Partners L.P | Regions Financial Corporation | Capital Factors Holding, Inc.
20050681 | Brian C. Rogers | T. Rowe Price Group, Inc | T. Rowe Price Group, Inc.
20050682 | Alion Science and Technology Corporation | John J. McMullen Associates, Inc | John J. McMullen Associates, Inc.
20050683 | TelCove, Inc | KMC Telecom Holdings, Inc | KMC Financial Services LLC, KMC Telecom II Inc., KMC Telecom II LLC, KMC Telecom LLC, KMC Telecom of Virginia, Inc.
20050686 | Century Tel, Inc | KMC Telecom Holdings, Inc | KMC Financial Services LLC, KMC Telecom III LLC, KMC Telecom II Inc., KMC Telecom LLC, KMC Telecom of Virginia, Inc.
20050687 | SAP AG | Retek, Inc | Retek, Inc.
20050689 | BCE Inc | Craig O. McCaw | Clearwire Corporation.
20050697 | Charterhouse Equity Partners IV, L.P | Amerifit Nutrition, Inc | Amerifit Nutrition, Inc.
20050698 | BLB Investors, L.L.C | Wembley, plc | Wembley Inc.
20050699 | News Corporation | Cablevision Systems Corporation | Cablevision Systems Corporation.
20050708 | Cablevision Systems Corporation | Cablevision Systems Corporation | Regional Programming Partners.
TRANSACTIONS GRANTED EARLY TERMINATION—03/15/2005
20050613 | Nanometrics Incorporated | August Technology Corporation | August Technology Corporation.
20050694 | H.J. Heinz Company | George E. King | Appetizers And, Inc.
20050695 | H.J. Heinz Company | Patricia J. Domanik | Appetizers And, Inc.
TRANSACTIONS GRANTED EARLY TERMINATION—03/16/2005
20050674 | J.P. Morgan Chase & Co | Progress Energy, Inc | Progress Metal Reclamation Company, Progress Rail Services Corporation.
TRANSACTIONS GRANTED EARLY TERMINATION—03/17/2005
20050623 | Ingram Industries Inc | Riverway Co | Riverway Harbor Service St. Louis, Inc.
20050693 | Apollo Investment Fund IV, L.P | Hughes Network Systems, LLC | Hughes Network Systems, LLC.
TRANSACTIONS GRANTED EARLY TERMINATION—03/18/2005
20050676 | Dyson, Dyson & Dunn, Inc | McGard, Inc | D.J.P. Realty Associates LLC, L.D. McCauley, Inc., McGard Deutschland GmbH, McGard, Inc.
20050684 | Onex Partner L.P | The Boeing Company | The Boeing Company.
20050700 | SECOM Co., Ltd | Cortec Group Fund II, L.P | Switchcraft, Inc.
20050709 | Henry Samueli | The Walt Disney Company | DCSR, Inc., Mighty Ducks Hockey Club, Inc.
20050710 | St. Jude Medical, Inc | Velocimed LLC | Velocimed DMC, Inc. Velocimed, Inc., Velocimed PFO, Inc.
20050713 | Oracle Corporation | Retek Inc | Retek Inc.
20050714 | GGC Investment Fund II, L.P | Blue Martini Software, Inc | Blue Martini Software, Inc.
20050716 | Johnson & Johnson | TransForm Pharmaceuticals, Inc | TransForm Pharmaceuticals, Inc.
20050718 | The McGraw-Hill Companies, Inc | James D. Power III | J.D. Power and Associates.
20050719 | GTEL Holdings, Inc | AT&T Corp | TCG Payphones, Inc., TCG Public Communications, Inc.
20050721 | Warburg Pincus Private Equity VIII, L.P | New Breed, Inc | New Breed, Inc.
TRANSACTIONS GRANTED EARLY TERMINATION—03/21/2005
20050632 | Danielson Holding Corporation | American Ref-Fuel Holdings Corp | American Ref-Fuel Holdings Corp.
TRANSACTIONS GRANTED EARLY TERMINATION—03/22/2005
20050690 | Partners Limited | Verizon Communications Inc | Verizon Communications Inc.
20050691 | Emera Inc | Verizon Communications | Verizon Communications Inc.
20050703 | Esmark Incorporated | Brian R. Williamson | Miami Valley Steel Service Inc.
20050711 | U.S. Equity Partners II (U.S. Parallel), L.P | Global Hyatt Corporation | Bassett Ready-Mix Co., Inc., Meyer Material Company, Paveloc Industries, Inc.
20050722 | First Horizon Pharmaceutical Corporation | Andrx Corporation | Andrx EU Ltd., Andrx Laboratories, Inc., Andrx Laboratories (NJ), Inc., Andrx Labs, LLC.
20050725 | Monitor Clipper Equity Partners II, L.P | HIG-MSC, Inc | MSC Acquisition, Inc.
20050733 | BB&T Corporation | Sterling Capital Management LLC | New Sterling LLC.
TRANSACTIONS GRANTED EARLY TERMINATION—03/23/2005
20050701 | Barry Diller | Cornerstone Brands, Inc | Cornerstone Brands, Inc.
TRANSACTIONS GRANTED EARLY TERMINATION—03/24/2005
20050644 | Monsanto Company | HMTF Equity Fund IV (1999) Cayman, L.P | Emergent Genetics, Inc.
20050724 | Crimson Velocity Fund, L.P | R. T. Groos, LLC | Tyden Group, Inc.
20050731 | A.A. Mordashov | Lucchini S.p.A | Lucchini S.p.A.
TRANSACTIONS GRANTED EARLY TERMINATION—03/25/2005
20050723 | New Mountain Partners II, L.P | Kenneth E. and Tena R. deLaski | Deltek Systems, Inc.
20050727 | Spectrum Equity Investors IV, L.P | Pegasus Partners II, L.P | Classic Media, Inc.
20050735 | Yitzkah Sharon-shareholder of The Delek Group | Rosemore, Inc | La Gloria Oil and Gas Company, MPC Land Acquisition, Inc., MPC Pipeline Acquisition, Inc.
20050736 | BT Group plc | Reuters Group PLC | Radianz Ltd.
20050739 | Thoma Cressey Fund VII, L.P | Datatel, Inc | Datatel, Inc.
20050747 | Behrman Capital III L.P | 2000 Riverside Capital Appreciation Fund, L.P | Selig Holdings Corporation.
TRANSACTIONS GRANTED EARLY TERMINATION—03/29/2005
20050688 | Chiquita Brands International, Inc | Performance Food Group Company | Fresh Advantage, Inc.,
|  |  | Fresh International Corp., K.C. Salad Holdings, Inc., Redi-Cut Foods, Inc.
20050732 | Atlas Pipeline Partners, L.P | Energy Transfer Partners, L.P | ETC Oklahoma Pipeline, Ltd.
20050742 | Partners Limited | Weyerhaeuser Company | Weyerhaeuser Company Limited.
20050743 | Cenex Finance Association, Inc | CHS Inc | Fin-Ag, Inc.
20050745 | Industrial Growth Partner II, L.P | Wingate Partners III, L.P | AmerCable Incorporated.
20050751 | VF Corporation | SPC Partners II, L.P | Reef Holdings Corporation.
TRANSACTIONS GRANTED EARLY TERMINATION—03/30/2005
20050738 | Verizon Communications Inc | MetroPCS, Inc | GWI PCS1, Inc.
20050740 | Brown Shoe Company, Inc | Heritage Fund III, L.P | Bennett Footwear Holdings, LLC, Bennett Investment Corporation.
TRANSACTIONS GRANTED EARLY TERMINATION—04/01/2005
20050749 | Belgacom S.A | Belgacom International Carrier Services, S.A | Belgacom International Carrier Services, S.A.
20050753 | Erich Wesjohann GmbH & Co. KG | Aviagen International Group, Inc | Aviagen International Group, Inc.
2005070 | Gilead Sciences, Inc | Japan Tobacco, Inc | Japan Tobacco, Inc.
20050761 | Global Private Equity IV Limited Partnership | Peterson Capital II, LLC | Making Memories Wholesale, Inc.
20050765 | Icelandic Group plc | Sjovik ehf | Sjovik ehf.
TRANSACTIONS GRANTED EARLY TERMINATION—04/04/2005
20050706 | Boston Scientific Corporation | TriVascular, Inc | TriVascular, Inc.
20050771 | Boston Scientific Corporation | Cryo Vascular Systems, Inc | Cryo Vascular Systems, Inc.
TRANSACTIONS GRANTED EARLY TERMINATION—04/05/2005
20050755 | The Goldman Sachs Group, Inc | Selim K. Zilkha | Zilkha Renewable Energy, LLC.
TRANSACTIONS GRANTED EARLY TERMINATION—04/07/2005
20050712 | J.P. Morgan Chase & Co | SAVVIS Communications Corporation | SAVVIS Communications Corporation.
20050766 | International Business Machines Corporation | Ascential Software Corporation | Ascential Software Corporation.
20050767 | Siemens Aktiengesellschaft | CTI Molecular Imaging, Inc | CTI Molecular Imaging, Inc.

For Further Information Contact: Sandra M. Peay, Contract Representative, or Renee Hallman, Case Management Assistant, Federal Trade Commission, Premerger Notification Office, Bureau of competition, Room H-303, Washington, DC 20580, (202) 326-3100.

By direction of the Commission.
Donald S. Clark,
Secretary.

[FR Doc. 05-8618 Filed 4-29-05; 8:45 am]

BILLING CODE 6750-01-M